DEPARTMENT OF ENERGY

Federal Energy Regulatory Commission

Project No. 1932-067]

Southern California Edison Company: Fontana Union Water Company: Notice of Application of Transfer of License and Soliciting Comments, Motions To Intervene, and Protests

On November 15, 2024, Southern California Edison Company (transferor) and Fontana Union Water Company (transferee) filed an application with the Federal Energy Regulatory Commission (FERC or Commission) to transfer the license for the 500-kilowatt Lytle Creek Hydroelectric Project (Lytle Creek Project) No. 1932. The project is located on Lytle Creek in San Bernardino County, California, and occupies federal land within the San Bernardino National Forest.

Pursuant to 16 U.S.C. 801, the applicants seek Commission approval to transfer the license for the Lytle Creek Project from the transferor to the transferee. Upon approval, the transferee will be required by the Commission to comply with all the requirements of the license.

Applicants Contacts:

For Transferor: Wayne Allen, Principal Manager, Southern California Edison, 2244 Walnut Grove Ave., Rosemead, CA 91770, wayne.allen@sce.com and Allison Bahen, Director, Southern California Edison, 2244 Walnut Grove Ave., Rosemead, CA 91770, allison.bahen@sce.com.

For Transferee: Robert J. DiPrimio, Vice President/Director, Fontana Union Water Company, 15966 Arrow Route, Fontana, CA 92335, rjdiprimio@sgvwater.com.

FERC Contact: Woohee Choi, Phone: (202) 502-6336, Email: Woohee.Choi@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY).

In lieu of electronic filing, you may submit a paper copy. Submissions sent via U.S. Postal Service must be addressed to, Debbie-Anne A. Reese, Secretary, Federal Energy Regulatory Commission, 888 First Street NE, Room 1A, Washington, DC 20426. Submissions sent via any other carrier must be addressed to, Debbie-Anne A. Reese, Secretary, Federal Energy Regulatory Commission, 12225 Wilkins Avenue, Rockville, Maryland 20852. The first page of any filing should include docket number P-1932-067. Comments emailed to Commission staff are not considered part of the Commission record.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

Dated: February 21, 2025
Debbie-Anne A. Reese,
Secretary.

[FR Doc. 2025-03191 Filed 2-26-25; 8:45 am]

BILLING CODE 6717-01-P